DEPARTMENT OF HOUSING AND URBAN DEVELOPMENT

[Docket No. FR-5480-N-43]

Notice of Submission of Proposed Information Collection to OMB Choice Neighborhoods

AGENCY: Office of the Chief Information Officer, HUD.

ACTION: Notice.

SUMMARY: The proposed information collection requirement described below has been submitted to the Office of Management and Budget (OMB) for review, as required by the Paperwork Reduction Act. The Department is soliciting public comments on the subject proposal.

The information is required to allow HUD to award and obligate grant funds in accordance with the FY 2010 HUD Appropriations Act, which permits HUD to use up to $65M of the HOPE VI appropriation for a Choice Neighborhoods Initiative.

DATES: Comments Due Date: June 9, 2011.

ADDRESSES: Interested persons are invited to submit comments regarding this proposal. Comments should refer to the proposal by name and/or OMB approval Number (2577-0269) and should be sent to: HUD Desk Officer, Office of Management and Budget, New Executive Office Building, Washington, DC 20503; e-mail OIRA-Submission@omb.eop.gov fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Choice Neighborhoods.

OMB Approval Number: 2577-0269.

Form Numbers: HUD Form 53233, HUD Form 53237, HUD Form 53239, HUD Form 53234, HUD Form 53235, HUD Form 53154, HUD Form 53240, HUD Form 53151, HUD Form 53150, HUD Form 53153, HUD Form 53236, HUD Form 53232, HUD Form 53152, HUD Form 53238, HUD Form 53230, HUD Form 53231.

Description of the Need for the Information and its Proposed Use: The information is required to allow HUD to award and obligate grant funds in accordance with the FY 2010 HUD Appropriations Act, which permits HUD to use up to $65M of the HOPE VI appropriation for a Choice Neighborhoods Initiative.

Frequency of Submission: On occasion.

| Number of respondents | Annual responses | × | Hours per response | = | Burden hours
Reporting Burden | 150 | 45.76 |  | 0.0218 |  | 150

Total Estimated Burden Hours: 150.

Status: Reinstatement, with change, of previously approved collection.

Authority: Section 3507 of the Paperwork Reduction Act of 1995, 44 U.S.C. 35, as amended.

Dated: May 4, 2011.
Colette Pollard,
Departmental Reports Management Officer, Office of the Chief Information Officer.

[FR Doc. 2011-11258 Filed 5-9-11; 8:45 am]

BILLING CODE 4210-67-P